DEPARTMENT OF TRANSPORTATION

Federal Aviation Administration

14 CFR Part 71

[Docket No. FAA-2022-0025; Airspace Docket No. 21-ACE-2]

RIN 2120-AA66

Amendment of Multiple Air Traffic Service (ATS) Routes and Establishment of Area Navigation (RNAV) Routes in the Vicinity of Liberal, KS

Correction

In rule document 2022-13844, appearing on pages 38916-38919, in the issue of Thursday, June 30, 2022, make the following correction.

§ 71.1 [Corrected]

On page 38918, beginning in the third column, 2006 United States Area Navigation Routes is corrected to read as follows:

Q-176 Cimarron, NM (CIM) to OTTTO, VA [Amended]
Cimarron, NM (CIM) | VORTAC | (Lat. 36°29′29.03″ N, long. 104°52′19.20″ W)
KENTO, NM | WP | (Lat. 36°44′19.10″ N, long. 103°05′57.13″ W)
TOTOE, KS | WP | (Lat. 37°02′40.21″ N, long. 100°58′16.87″ W)
WRIGL, KS | WP | (Lat. 37°44′42.79″ N, long. 097°35′02.52″ W)
Butler, MO (BUM) | VORTAC | (Lat. 38°16′19.49″ N, long. 094°29′17.74″ W)
St Louis, MO (STL) | VORTAC | (Lat. 38°51′38.48″ N, long. 090°28′56.52″ W)
GBEES, IN | WP | (Lat. 38°41′54.72″ N, long. 085°10′13.03″ W)
BICKS, KY | WP | (Lat. 38°38′29.92″ N, long. 084°25′20.82″ W)
Henderson, WV (HNN) | DME | (Lat. 38°45′14.85″ N, long. 082°01′34.20″ W)
OTTTO, VA | WP | (Lat. 38°51′15.81″ N, long. 078°12′20.01″ W)

* * * * *

[FR Doc. C1-2022-13844 Filed 8-10-22; 8:45 am]

BILLING CODE 0099-10-P